DEPARTMENT OF HEALTH AND HUMAN SERVICES

Centers for Medicare & Medicaid Services

[Document Identifier: CMS-R-118 and CMS-2088-92]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Reinstatement without change of a previously approved collection; Title of Information Collection: Quality Improvement (formerly Peer Review) Organization Contracts: Solicitation of Statements of Interest from In-State Organizations, General Notice and Supporting Regulations in 42 CFR, 475.102, 475.103, 475.104, 475.105, 475.106; Use: The criteria that an organization must satisfy in order to be eligible for a Medicare Quality Improvement Organization (QIO) contract are specified by law and set forth in Sections 1152 and 1153 of the Social Security Act (the Act). In very basic terms, the applicant organization must demonstrate that it is either a physician-sponsored or physician-access organization. The qualifications for in-State status for an otherwise qualified QIO organization are also set forth in Section 1153(i) (3) of the Act.

To comply with Section 1153 of the Act, we must publish the solicitation of statements of interest from qualified in-State organizations no later than January 31, 2008. We wish to publish notice of contract expiration dates and the time periods during which interested, qualified organizations may submit statements of interest and proposals for these contracts substantially sooner than the January 2008 deadline, in order to give maximal notice and opportunity to all qualified and potentially interested organizations. We are soliciting information in the form of responses to our request for statements of interest from qualified in-State organizations who may wish to compete for the QIO contracts for their respective States. The responses should contain an indication of interest and information demonstrating the interested organizations' eligibility to qualify as a QIO under the requirements of Sections 1152 and 1153 of the Act. Form Number: CMS-R-118 (OMB#: 0938-0526); Frequency: Reporting—On occasion; Affected Public: Business or other for-profit; Number of Respondents: 53; Total Annual Responses: 53; Total Annual Hours: 1.

2. Type of Information Collection Request: Extension without change of a currently approved collection; Title of Information Collection: Outpatient Rehabilitation Provider Cost Report; Use: In accordance with sections 1815(a), 1833(e) and 1861(v)(1)(A)(ii) of the Social Security Act, providers of service in the Medicare program are required to submit annual information to achieve reimbursement for health care services rendered to Medicare beneficiaries. Section 42 CFR 413.20(b) requires that cost reports be required from providers on an annual basis. Such cost reports are required to be filed with the provider's fiscal intermediary. The CMS 2088-92 cost report is needed to determine the amount of reimbursable cost that is due these providers for furnishing medical services to Medicare beneficiaries. Form Number: CMS-2088-92 (OMB#: 0938-0037); Frequency: Reporting—Yearly; Affected Public: Business or other for-profits and Not-for-profit institutions; Number of Respondents: 623; Total Annual Responses: 623; Total Annual Hours: 62,300.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on October 9, 2007.

CMS, Office of Strategic Operations and Regulatory Affairs, Division of Regulations Development—B, Attention: William N. Parham, III, Room C4-26-05, 7500 Security Boulevard, Baltimore, Maryland 21244-1850.

Dated: August 2, 2007.
Michelle Shortt,
Director, Regulations Development Group, Office of Strategic Operations and Regulatory Affairs.

[FR Doc. E7-15681 Filed 8-9-07; 8:45 am]

BILLING CODE 4120-01-P